DEPARTMENT OF THE INTERIOR

Geological Survey

Technology Transfer Act of 1986

AGENCY: Geological Survey, Interior.

ACTION: Notice of proposed cooperative research and development agreement (CRADA) negotiations.

SUMMARY: The United States Geological Survey (USGS) is contemplating entering into a Cooperative Research and Development Agreement (CRADA) with Swiss Reinsurance Company (“SwissRe'') to conduct a probabilistic study of earthquake hazards in the greater Tokyo area.

Inquiries: If any other parties are interested in studying other areas with the USGS, please contact Dr. Ross Stein, tel 1-650-329-4840, fax 1-650-329-4876, e-mail rstein@usgs.gov.

SUPPLEMENTARY INFORMATION: This notice is to meet the USGS requirement stipulated in the Survey Manual.

Dated: March 6, 2003.
P. Patrick Leahy,
Associate Director for Geology.

[FR Doc. 03-10937 Filed 5-2-03; 8:45 am]

BILLING CODE 4310-Y7-M